DEPARTMENT OF ENERGY

Federal Energy Regulatory Commission

Combined Notice of Filings #2

Take notice that the Commission received the following electric rate filings:

Docket Numbers: ER17-1572-000.

Applicants: Amazon Energy LLC.

Description: § 205(d) Rate Filing: MBR Cat 2 to be effective 5/10/2017.

Filed Date: 5/9/17.

Accession Number: 20170509-5056.

Comments Due: 5 p.m. ET 5/30/17.

Docket Numbers: ER17-1573-000.

Applicants: Midcontinent Independent System Operator, Inc.

Description: § 205(d) Rate Filing: 05-09-2017_SA 3014 Woodstock Hills-NSP GIA (J558) to be effective 5/10/2017.

Filed Date: 5/9/17.

Accession Number: 20170509-5063.

Comments Due: 5 p.m. ET 5/30/17.

Docket Numbers: ER17-1574-000.

Applicants: EUI Affiliate LLC.

Description: Baseline eTariff Filing: EUI Affiliate LLC MBR Tariff to be effective 5/10/2017.

Filed Date: 5/9/17.

Accession Number: 20170509-5095.

Comments Due: 5 p.m. ET 5/30/17.

Docket Numbers: ER17-1575-000.

Applicants: Southwest Power Pool, Inc.

Description: § 205(d) Rate Filing: Tariff Amendments to Modify ARR/LTCR Eligibility Provisions for Network Service to be effective 7/15/2017.

Filed Date: 5/9/17.

Accession Number: 20170509-5099.

Comments Due: 5 p.m. ET 5/30/17.

Docket Numbers: ER17-1576-000.

Applicants: Duke Energy Carolinas, LLC.

Description: § 205(d) Rate Filing: DEC-Western Carolina RS No. 338 Revised PPA to be effective 7/1/2017.

Filed Date: 5/9/17.

Accession Number: 20170509-5102.

Comments Due: 5 p.m. ET 5/30/17.

Docket Numbers: ER17-1577-000.

Applicants: Reuel Energy LLC.

Description: Baseline eTariff Filing: Reuel Energy LLC MBR Application to be effective 7/7/2017.

Filed Date: 5/9/17.

Accession Number: 20170509-5106.

Comments Due: 5 p.m. ET 5/30/17.

Docket Numbers: ER17-1578-000.

Applicants: Keni Energy LLC.

Description: Baseline eTariff Filing: Keni Energy LLC MBR Application to be effective 7/7/2017.

Filed Date: 5/9/17.

Accession Number: 20170509-5107.

Comments Due: 5 p.m. ET 5/30/17.

Docket Numbers: ER17-1579-000.

Applicants: New York Independent System Operator, Inc.

Description: § 205(d) Rate Filing: NYISO and TC Ravenswood Implementation Agreement re: NYSRC Reliability Rule G.2 to be effective5/1/2017.

Filed Date: 5/9/17.

Accession Number: 20170509-5112.

Comments Due: 5 p.m. ET 5/30/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2017.
Kimberly D. Bose,
Secretary.

[FR Doc. 2017-09796 Filed 5-15-17; 8:45 am]

BILLING CODE 6717-01-P